DEPARTMENT OF TRANSPORTATION

Federal Aviation Administration

14 CFR Part 71

[Docket No. FAA-2007-29086; Airspace Docket No. 07-ASO-22]

Amendment of Class E Airspace; Aguadilla, PR

AGENCY: Federal Aviation Administration (FAA), DOT.

ACTION: Final rule.

SUMMARY: This document amends the Class E2 and E5 airspace at Aguadilla, PR. This action corrects the geographical position coordinates for the Rafael Hernandez Airport.

DATES: Effective Date: 0901 UTC, December 20, 2007. The Director of the Federal Register approves this incorporation by reference action under title 1, Code of Federal Regulations, part 51, subject to the annual revision of FAA Order 7400.9 and publication of conforming amendments.

FOR FURTHER INFORMATION CONTACT: Mark D. Ward, Manager, System Support Group, Eastern Service Center, Federal Aviation Administration, P.O. Box 20636, Atlanta, Georgia 30320; telephone (404) 305-5581.

SUPPLEMENTARY INFORMATION:

History

On March 16, 2007, the geographical position coordinates for Rafael Hernandez Airport, Aguadilla, PR, changed from lat. 18°29′38″N, long. 67°07′59″W to lat. 18°29′42″N, long. 67°07′46″W. This action corrects the geographical position coordinates of the airport.

This rule becomes effective on the date specified in the Effective Date section. Since this action will have no impact on aircraft operating in the vicinity of Rafael Hernandez Airport, Aguadilla, PR, notice and public procedure under 5 U.S.C. 553(b) are not necessary. Class E airspace areas designated as surface areas and Class E airspace areas designated as airspace areas extending upward from 700 feet or more above the surface of the earth are published in Paragraphs 6002 and 6005, respectively, of FAA Order 7400.9P, Airspace Designations and Reporting Points, dated September 1, 2006, and effective September 15, 2006, which is incorporated by reference in 14 CFR 71.1. The Class E airspace designations listed in this document will be published subsequently in the Order.

The Rule

This amendment to Title 14 Code of Federal Regulations (14 CFR) part 71 amends Class E2 and E5 airspace at Rafael Hernandez Airport, Aguadilla, PR.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for 14 CFR part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9R, Airspace Designations and Reporting Points, dated August 15, 2007, and effective September 15, 2007, is amended as follows:

Paragraph 6000. Class E Airspace.

* * * * *

ASO PR E2 Aguadilla, PR [Revised]

Rafael Hernandez Airport, PR

(Lat. 18°29′42″ N, long. 67°07′46″ W)

Borinquen VORTAC

(Lat. 18°29′53″ N, long. 67°06′30″ W)

Within a 4.5-mile radius of Rafael Hernandez Airport and within 2.4 miles each side of the Borinquen VORTAC 257° radial, extending from the 4.5-mile radius to 7 miles west of the VORTAC. This Class E airspace area is effective during the specific days and times established in advance by a Notice to Airmen. The effective days and times will thereafter be continuously published in the Airport/Facility Directory.

* * * * *

ASO PR E5 Aguadilla, PR [Revised]

Rafael Hernandez Airport, PR

(Lat. 18°29′42″ N, long. 67°07′46″ W)

Eugenio Maria De Hostos Airport

(Lat. 18°15′21″ N, long. 67°08′55″ W)

That airspace extending upward from 700 feet above the surface within an 11-mile radius of Rafael Hernandez Airport and within a 10-mile radius of Eugenio Maria De Hostos Airport.

* * * * *

Issued in College Park, Georgia, on October 5, 2007.
Barry A. Knight,
Acting Manager, System Support Group, Eastern Service Center.

[FR Doc. 07-5264 Filed 10-26-07; 8:45 am]

BILLING CODE 4910-13-M